DEPARTMENT OF COMMERCE

International Trade Administration

A-570-831

Fresh Garlic from the People's Republic of China: Extension of Time Limits for the Preliminary Results of the New Shipper Reviews

AGENCY: Import Administration, International Trade Administration, Department of Commerce.

EFFECTIVE DATE: December 20, 2006.

FOR FURTHER INFORMATION CONTACT: Javier Barrientos, AD/CVD Operations, Office 9, Import Administration, International Trade Administration, U.S. Department of Commerce, 14th Street and Constitution Avenue, NW, Washington DC 20230; telephone: (202) 482-2243.

SUPPLEMENTARY INFORMATION:

Background

On July 7, 2006, the Department published a notice of initiation of a review of fresh garlic from the People's Republic of China (“PRC”), covering the period November 1, 2005, through April 30, 2006. See Initiation of Antidumping and Countervailing Duty Administrative Reviews and Requests for Revocation in Part, 71 FR 38607 (July 7, 2006).

The preliminary results are currently due on December 24, 2006. The Department issued supplemental questionnaires to all four new shippers. However, due to a substantial amount of information regarding the production and processing of the merchandise under consideration, the Department requires more time to issue additional supplemental questionnaires to the new shippers. Therefore, pursuant to section 751(a)(2)(B)(iv) of the Tariff Act of 1930, as amended (“the Act”) and 19 CFR 351.214(h)(i)(2), we are extending the preliminary results of this new shipper review.

Extension of Time Limit of Preliminary Results

The Department determines that it would be extraordinarily complicated to complete the preliminary results of these reviews within the current statutory time period. This new shipper review covers four companies, and to conduct the sales and factor analyses for each requires the Department to gather and analyze a significant amount of information pertaining to each company's sales practices and manufacturing methods. The four new shipper reviews involve extraordinarily complicated methodological issues such as the use of intermediate input methodology, potential affiliation issues and the examination of importer information. Additionally, the Department requires more time to evaluate the bona fide nature of each company's sales.

Therefore, given the number and complexity of issues in this case, and in accordance with section 751(a)(3)(A) of the Act, we are extending the time period for issuing the preliminary results of review by 120 days until April 23, 2007. The final results continue to be due 90 days after the publication of the preliminary results.

This notice is published pursuant to section 751(a)(2)(B)(iv) of the Act, and 19 CFR 351.214(h)(i)(2).

Dated: December 14, 2006.
Stephen J. Claeys,
Deputy Assistant Secretary for Import Administration.

[FR Doc. E6-21758 Filed 12-19-06; 8:45 am]

Billing Code: 3510-DS-S